ENVIRONMENTAL PROTECTION AGENCY

40 CFR Part 52

[IN 144-4; FRL-7611-5]

Approval and Promulgation of Implementation Plans; Indiana

AGENCY: Environmental Protection Agency (EPA).

ACTION: Final rule.

SUMMARY: Indiana submitted a particulate matter State Implementation Plan (SIP) revision request to EPA on December 19, 2001. EPA is approving revisions to particulate matter (PM) control requirements for certain Indiana natural gas combustion sources subject to 326 Indiana Administrative Code (IAC) 6-1, Indiana's PM regulations. EPA is also approving various cleanup revisions to this rule.

The revision primarily concerns PM limits for combustion sources that burn natural gas and are located in certain Indiana counties. Other revisions to the rule include minor rewording, the updating of source and facility names, and the elimination of references to sources that have shut down.

DATES: This rule is effective on March 4, 2004.

ADDRESSES: Copies of Indiana's submittal and other documents relevant to this action are available for public inspection at: Criteria Pollutant Section, Air Programs Branch (AR-18J), U.S. Environmental Protection Agency, Region 5, 77 West Jackson Boulevard, Chicago, Illinois 60604.

FOR FURTHER INFORMATION CONTACT: Matt Rau, Environmental Engineer, Criteria Pollutant Section, Air Programs Branch (AR-18J), U.S. Environmental Protection Agency, Region 5, 77 West Jackson Boulevard, Chicago, Illinois 60604, Telephone: (312) 886-6524, e-mail: rau.matthew@epa.gov.

Table of Contents

I. Background.

II. What Is the EPA Approving?

III. Public Hearing.

IV. What Is the EPA's Analysis of the Requested Revisions?

V. What Are the Environmental Effects of These Actions?

VI. Summary of EPA Action.

VII. Statutory and Executive Order Reviews.

I. Background

Indiana submitted a SIP revision request to EPA on December 19, 2001. This request sought approval of provisions for certain natural gas combustion sources and cleanup provisions in 326 IAC 6-1. EPA published a proposed and a direct final rule to approve the requested revisions in the Federal Register on October 11, 2002 (67 FR 63268-70, 63353). EPA received an adverse comment on the rule from Ispat Inland, Inc. concerning the inclusion of 326 IAC 6-1-10.1(l) through (v), Continuous Compliance Plan requirements for Lake County, Indiana. As a result of this adverse comment, EPA published a withdrawal of the direct final rule in the November 27, 2002 Federal Register (67 FR 70850).

On January 19, 2002, Indiana revised 326 IAC 6-1, to delete subsection 1(b), which concerned the relationship between the limitations in that rule and emission limitations established in certain State operating permits under 40 CFR Part 70. This deletion was based on changes made to the Part 70 Program, as described in a March 20, 2002, State submission. For this SIP revision request, EPA has evaluated only the subsections (a),(b), and (c) (formerly (a),(c), and (d)). In addition, by letter of March 17, 2003, to EPA, Indiana requested that EPA take no further action on the continuous compliance plan provisions in 326 IAC 6-1-10.1(l) through (v) and the Lake County contingency particulate matter contingency measures in 326 IAC 6-1-11.2.

EPA proposed approval of Indiana's requested SIP revisions in the September 16, 2003, Federal Register (68 FR 34282-86). No comments were received during the comment period which ended October 16, 2003.

II. What Is the EPA Approving?

EPA is approving changes to 326 IAC 6-1 as revisions to the Indiana SIP. These revisions include exempting certain natural gas combustion sources from PM emissions limits and replacing the limits with a requirement that such sources may only burn natural gas. The other changes consist of certain cleanup provisions, such as removing limits for sources that have shut down and updating the names of other sources.

A. Provisions for Natural Gas Combustion Sources

Revised 326 IAC 6-1-1(b) states that PM limitations shall not be established for combustion units that burn only natural gas at sources or facilities identified in sections 8.1, 9, and sections 12 through 18 of the rule, as long as the units continue to burn only natural gas. The provisions of 326 IAC 6-1-1(b) apply to sources in Clark, Dearborn, Dubois, Howard, Marion, St. Joseph, Vanderburgh, Vigo, and Wayne counties. This revision replaces PM limitations on gas-fired combustion units at the identified sources in these counties with the requirement that the units burn only natural gas.

Revised 6-1-1(c) states that if the emission limits in sections 2 and sections 8.1 through 18 conflict with or are inconsistent with new source performance standards established in 326 IAC 12, then the more stringent limitations apply.

B. Cleanup Revisions

These revisions affect several sections of 326 IAC 6-1. They are sections 1(a), 1.5, 2 through 6, 8.1, 9, 10.1(a) through (k), 11.1, and 12 through 18. They generally consist of adding definitions, making minor wording changes, updating source and facility names, and eliminating references to sources or facilities that have shut down.

III. Public Hearing

Indiana held a public hearing on October 4, 2000 in Indianapolis. No comments were made during the hearing. Notice of this public hearing was published in five newspapers between August 28 and September 5, 2000. Indiana offered three comment periods on this rule. The first was from October 1, 1998, to December 1, 1998, the second was from November 1 through 30, 1999, and the final comment period ran from August 1 through 31, 2000.

IV. What Is the EPA's Analysis of the Requested Revisions?

The revision replaces PM limitations on select gas-fired combustion units with the requirement that they only burn natural gas. PM emissions from sources burning natural gas are typically very low. The AP-42 emission factor from natural gas combustion for filterable PM is 1.9 pounds per million standard cubic feet of natural gas. This is equivalent to 0.00186 pounds per million British Thermal Units. EPA assumes that all PM resulting from natural gas combustion is less than one micrometer (μm) in diameter. Therefore, the AP-42 emission factor for PM is also a valid estimate of PM less than 10 μm diameter (PM-10) emissions. Thus, the addition of 326 IAC 6-1-1(b) is not expected to harm air quality because natural gas burns with low PM emissions which will not exceed the current limits.

Additional revisions to other portions of 326 IAC 6-1 help clean up the rule. The new definitions and rewording of the rule help increase its clarity. The revisions which update source name changes and delete sources which have shut down will help keep the SIP current.

V. What Are the Environmental Effects of These Actions?

Particulate matter can interfere with lung function when inhaled. Exposure to PM can cause heart and lung disease. PM also aggravates asthma and bronchitis. Airborne particulate is the main source of haze that causes a reduction in visibility. It also is deposited on the ground and in the water. This harms the environment by changing the nutrient and chemical balance.

The addition of 326 IAC 6-1-1(b) will not cause sources to emit PM in excess of the current emission limits because natural gas burns with low PM emissions. Since this SIP revision does not allow for increased emissions, it should not have an adverse effect on air quality. Also, the elimination of limits on sources that have shut down will result in lower overall allowed PM emission limits.

VI. Summary of EPA Action

The specific Indiana regulations being approved by this action are as follows: 326 IAC, Article 6: Particulate Rules, Rule 1: Non-attainment Area Limitations, Section 1: Applicability, Subsections (a), (b) and (c); Section 1.5: Definitions; Section 2: Particulate emission limitations; fuel combustion steam generators, asphalt concrete plant, grain elevators, foundries, mineral aggregate operations; modification by commissioner; Section 3: Non-attainment area particulate limitations; compliance determination; Section 4: Compliance schedules; Section 5: Control strategies; Section 6: State Implementation Plan revisions; Section 8.1: Dearborn County particulate matter emissions limitations; Section 9: Dubois County; Section 10.1: Lake County PM10 emission requirements, Subsections (a) through (k); Section 11.1: Lake County fugitive particulate matter control requirements; Section 12: Marion County; Section 13: Vigo County; Section 14: Wayne County; Section 15: Howard County; Section 16: Vanderburgh County; Section 17: Clark County; and Section 18: St. Joseph County.

VII. Statutory and Executive Order Reviews

Executive Order 12866: Regulatory Planning and Review

Under Executive Order 12866 (58 FR 51735, October 4, 1993), this action is not a “significant regulatory action” and therefore is not subject to review by the Office of Management and Budget.

Executive Order 13211: Actions Concerning Regulations That Significantly Affect Energy Supply, Distribution, or Use

For this reason, this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Public Law 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by April 5, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: November 26, 2003.
Bharat Mathur,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(152) to read as follows:

§ 52.770 Identification of plan.

* * * * *

(c) * * *

(152) On December 19, 2001, Indiana submitted revised Particulate Matter (PM) control requirements. A March 17, 2003 letter from Indiana clarified what portions of the original submission the State was seeking revisions for. EPA is approving revisions for certain natural gas combustion sources in Indiana and various cleanup revisions to Indiana's PM rules. One revision eliminates PM emissions limits on specified natural gas combustion sources and replaces the limits with a requirement that such sources may only burn natural gas. The submission also contains many cleanup provisions such as eliminating limits for sources which have shut down and updating names of sources.

(i) Incorporation by reference.

(A) Indiana Administrative Code (IAC) Title 326: Air Pollution Control Board, Article 6: Particulate Rules, Rule 1: Nonattainment Area Limitations, IAC 6-1-1.5: Definitions; IAC 6-1-2: Particulate emission limitations; fuel combustion steam generators, asphalt concrete plant, grain elevators, foundries, mineral aggregate operations; modification by commissioner; IAC 6-1-3: Non-attainment area particulate limitations; compliance determination; IAC 6-1-4: Compliance schedules; IAC 6-1-5: Control strategies; IAC 6-1-6: State Implementation Plan revisions; IAC 6-1-8.1: Dearborn County particulate matter emissions limitations; IAC 6-1-9: Dubois County; IAC 6-1-10.1: Lake County PM10 emission requirements, Subsections (a) through (k); IAC 6-1-11.1: Lake County fugitive particulate matter control requirements; IAC 6-1-12: Marion County; IAC 6-1-13: Vigo County; IAC 6-1-14: Wayne County; IAC 6-1-15: Howard County; IAC 6-1-16: Vanderburgh County; IAC 6-1-17: Clark County; and, IAC 6-1-18: St. Joseph County. Adopted by the Indiana Air Pollution Control Board August 1, 2001. Filed with the Secretary of State November 8, 2001. Published in the Indiana Register, Volume 25, Number 3, December 1, 2001 at 709. State effective December 8, 2001.

(B) Indiana Administrative Code (IAC) Title 326: Air Pollution Control Board, Article 6: Particulate Rules, Rule 1: Non-attainment Area Limitations, 6-1-1: Applicability. Adopted by the Indiana Air Pollution Control Board August 1, 2001. Filed with the Secretary of State November 8, 2001. Published in the Indiana Register, Volume 25, Number 3, December 1, 2001 at 709. State effective, December 8, 2001. Amended by Errata filed with the Secretary of State January 10, 2002. Published in the Indiana Register, Volume 25, Number 5, February 1, 2002 at 1644. State effective, February 24, 2002. And amended by Errata filed with the Secretary of State October 2, 2002. Published in the Indiana Register, Volume 26, Number 2, November 1, 2002 at 383. State effective, November 16, 2002.

[FR Doc. 04-1820 Filed 2-2-04; 8:45 am]

BILLING CODE 6560-50-P